DEPARTMENT OF COMMERCE

National Oceanic and Atmospheric Administration

Agency Information Collection Activities; Submission to the Office of Management and Budget (OMB) for Review and Approval; Comment Request; Davidson Fellowship

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on April 2, 2020, during a 60-day comment period. This notice allows for an additional 30 days for public comments.

Agency: National Oceanic and Atmospheric Administration.

Title: Davidson Fellowship.

OMB Control Number: 0648-XXXX.

Form Number(s): None.

Type of Request: Regular submission, new information collection.

Number of Respondents: 519.

Average Hours per Response: 8 minutes per survey.

Total Annual Burden Hours: 25 hours.

Needs and Uses: The Office for Coastal Management (OCM) in the National Ocean Service, National Oceanic and Atmospheric Administration, Department of Commerce is funding a new, two-year fellowship program called the “FY20-21 Margaret A. Davidson Graduate Fellowship for the National Estuarine Research Reserve System” (Davidson Fellowship). Funding is being made available through a competitive process to master's and doctoral students actively enrolled in a graduate program at an accredited university, through the use of a cooperative agreement to the university. The goals of the Davidson Fellowship are to build the next generation of leaders in estuarine science and coastal management by affording qualified graduate students the opportunity to conduct collaborative science within the National Estuarine Research Reserve System; partake in professional development opportunities; and receive mentoring to support professional growth.

The National Estuarine Research Reserve System is a national program administered by the Office for Coastal Management. The National Estuarine Reserve System has an interest in balancing the needs of the natural environment and coastal economies and is one of the primary programs responsible for implementing the Coastal Zone Management Act. All Davidson Fellowship projects must be conducted in a research reserve and should be designed to contribute to one of the reserve's priority management areas, and thus enhance the scientific understanding of the natural or social science aspects of the research subject matter. One fellow was selected in Spring 2020 for each of the 29 reserves for a two-year duration. Mentoring and professional development activities will be provided to build knowledge and skills needed to successfully contribute to the workforce responsible for the coast. These opportunities are also designed to create a strong network among the fellows during their tenure and into the early portion of their careers.

The purpose of this information collection is to gather information on the effectiveness of the Davidson Fellowship program in reaching the desired outcomes, so that we can adaptively manage and make continuous improvements to the program. This information collection will take place initially in Fall 2020, as the first cohort of fellows begins their program, and will gather information from selected fellows, their faculty advisors, contacts from each university's sponsored program office, reserve staff, and NOAA federal and contract staff supporting the Davidson Fellowship program. It will take place again in Fall 2022, as the second cohort of fellows begins their program and the first cohort of fellows finishes, and will gather information from selected fellows, their faculty advisors, contacts from each university's sponsored program office, reserve staff, and NOAA federal and contract staff supporting the Davidson Fellowship program.

More information on the fellowship can be found at this link: Davidson Fellowship website.

Affected Public: Not-for-profit institutions; State government; Federal government.

Frequency: Incoming Fellows, Outgoing Fellows, and Introductory surveys: once; Full surveys: Biennially.

Respondent's Obligation: Voluntary.

Legal Authority: Section 315 of the Coastal Zone Management Act of 1972, as amended CZMA, 16 U.S.C. 1461, establishes the National Estuarine Research Reserve System (NERRS). 16 U.S.C. 1461 (e)(1)(B) authorizes the Secretary of Commerce to make grants to any coastal state or public or private person for purposes of supporting research and monitoring within a National Estuarine Research Reserve that are consistent with the research guidelines developed under subsection (c).

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering the title of the collection.

Sheleen Dumas,
Department PRA Clearance Officer, Office of the Chief Information Officer, Commerce Department.

[FR Doc. 2020-15132 Filed 7-13-20; 8:45 am]

BILLING CODE 3510-08-P